DEPARTMENT OF TRANSPORTATION

Federal Aviation Administration

14 CFR Part 39

[Docket No. FAA-2012-1035; Directorate Identifier 2011-NM-235-AD; Amendment 39-17492; AD 2013-13-04]

RIN 2120-AA64

Airworthiness Directives; Airbus Airplanes

AGENCY: Federal Aviation Administration (FAA), Department of Transportation (DOT).

ACTION: Final rule.

SUMMARY: We are adopting a new airworthiness directive (AD) for certain Airbus Model A318, A319, A320, and A321 series airplanes. This AD was prompted by a report of an uncommanded nose landing gear (NLG) retraction. This AD requires installing a power interruption protection circuit for the landing gear control interface unit (LGCIU). We are issuing this AD to prevent untimely unlocking and/or retraction of the NLG, which, while on the ground, could result in injury to ground personnel and damage to the airplane.

DATES: This AD becomes effective August 14, 2013.

The Director of the Federal Register approved the incorporation by reference of certain publications listed in this AD as of August 14, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. The NPRM was published in the Federal Register on October 3, 2012 (77 FR 60331). The NPRM proposed to correct an unsafe condition for the specified products. The European Aviation Safety Agency (EASA), which is the aviation authority for the Member States of the European Community, has issued EASA Airworthiness Directive 2011-0202, dated October 13, 2011 (referred to after this as the Mandatory Continuing Airworthiness Information, or “the MCAI”), to correct an unsafe condition for the specified products.

The MCAI states:

After a push back from the gate, an A320 aeroplane was preparing to initiate taxi, when an uncommanded nose landing gear (NLG) retraction occurred, causing the nose of the aeroplane to hit the ground. Investigations revealed that the retraction was caused by a combination of a power interruption to LGCIUs [landing gear control interface unit] and an internal hydraulic leak through the landing gear (LG) selector valve 40GA.

Deeper investigations have revealed that LGCIU power interruption appears during engine start at each flight. Even though no incident has been reported in service, it has been determined that a non compliance to the safety objective exists when combined with a dormant single failure of the selector valve seal leaking.

This condition, if not corrected, could lead to further incidents of untimely unlocking and/or retraction of the NLG which, while on the ground, could result in injury to ground personnel and damage to the aeroplane.

To address the possible hydraulic leak of the LG selector valve, EASA issued AD 2007-0065, currently at Revision 2.

For the reasons described above, this [EASA] AD requires installation of a power interruption protection circuit to the LGCIU and the accomplishment of associated modifications [installation of new seals on nose landing gear (NLG)/main landing gear (MLG) door valve selector and gear valve-selector and for certain airplanes, re-identification of identification plates].

You may obtain further information by examining the MCAI in the AD docket.

Comments

We gave the public the opportunity to participate in developing this AD. We have considered the comments received.

Request To Reference Latest Service Information

Airbus requested that we refer to Mandatory Service Bulletin A320-32-1346, Revision 05, including Appendices 01 and 02, dated January 13, 2012. US Airways and Virgin America requested that the NPRM (77 FR 60331, October 3, 2012) mandate this revision in lieu of Airbus Mandatory Service Bulletin A320-32-1346, Revision 04, including Appendices 01 and 02, dated April 22, 2011.

We disagree with the requests. We reviewed Airbus Mandatory Service Bulletin A320-32-1346, Revision 05, including Appendices 01 and 02, dated January 13, 2012. Revision 05 requires additional work such as changes to the part number of a placard and adds a test of a battery relay. Therefore, referring to that revision of the service information in the final rule would require issuance of a supplemental NPRM. In light of this, and in the interest of the safety of the flying public, we will reference the service information that was referenced in the proposed NPRM (77 FR 60331, October 3, 2012) so as to not delay issuance of this final rule. Airbus or affected operators may, however, request approval to use a later revision of referenced service information as an alternative method of compliance (AMOC) in accordance with the procedures specified in paragraph (j) of this AD. We have not changed the AD in this regard.

Conclusion

We reviewed the available data, including the comments received, and determined that air safety and the public interest require adopting the AD as proposed—except for minor editorial changes. We have determined that these minor changes:

• Are consistent with the intent that was proposed in the NPRM (77 FR 60331, October 3, 2012) for correcting the unsafe condition; and

• Do not add any additional burden upon the public than was already proposed in the NPRM (77 FR 60331, October 3, 2012).

Costs of Compliance

We estimate that this AD will affect 755 products of U.S. registry. We also estimate that it will take about 48 work-hours per product to comply with the basic requirements of this AD. The average labor rate is $85 per work-hour. Required parts will cost about $8,220 per product. Where the service information lists required parts costs that are covered under warranty, we have assumed that there will be no charge for these parts. As we do not control warranty coverage for affected parties, some parties may incur costs higher than estimated here. Based on these figures, we estimate the cost of this AD to the U.S. operators to be up to $9,286,500, or up to $12,300 per product.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the AD, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-13-04 Airbus: Amendment 39-17492. Docket No. FAA-2012-1035; Directorate Identifier 2011-NM-235-AD.

(a) Effective Date

This airworthiness directive (AD) becomes effective August 14, 2013.

(b) Affected ADs

None.

(c) Applicability

This AD applies to Airbus Model A318-111, A318-112, A318-121, A318-122, A319-111, A319-112, A319-113, A319-114, A319-115, A319-131, A319-132, A319-133, A320-111, A320-211, A320-212, A320-214, A320-231, A320-232, A320-233, A321-111, A321-112, A321-131, A321-211, A321-212, A321-213, A321-231, and A321-232 airplanes; certificated in any category; all manufacturer serial numbers, except airplanes on which Airbus modification 37866 has been embodied in production.

(d) Subject

Air Transport Association (ATA) of America Code 32: Landing Gear.

(e) Reason

This AD was prompted by a report of an uncommanded nose landing gear (NLG) retraction. We are issuing this AD to prevent untimely unlocking and/or retraction of the NLG, which, while on the ground, could result in injury to ground personnel and damage to the airplane.

(f) Compliance

You are responsible for having the actions required by this AD performed within the compliance times specified, unless the actions have already been done.

(g) Modification

At the applicable compliance time specified in paragraph (g)(1) or (g)(2) of this AD: Install a power interruption protection circuit for the landing gear control interface unit (LGCIU), in accordance with the Accomplishment Instructions of Airbus Service Bulletin A320-32-1346, Revision 04, including Appendices 01 and 02, dated April 22, 2011 (for Model A318, A319, A320, and A321 series airplanes other than the Model A319CJ (corporate jet) airplanes); or Airbus Service Bulletin A320-32-1349, Revision 03, including Appendix 1, dated October 5, 2011 (for Model A319CJ (corporate jet) airplanes).

(1) For airplanes that have embodied Airbus modification 38947 specified in Airbus Service Bulletin A320-32-1348 during production or in service: Within 72 months after the effective date of this AD.

(2) For all airplanes other than those identified in paragraph (g)(1) of this AD: Within 60 months after the effective date of this AD.

(h) Re-Identification of Identification Plates

For airplanes on which the installation required by paragraph (g) of this AD have been done before the effective date of this AD using Airbus Service Bulletin A320-32-1346, dated December 4, 2008 (for Model A318, A319, A320, and A321 series airplanes other than Model A319CJ (corporate jet) airplanes): Within the applicable times specified in paragraphs (g)(1) and (g)(2) of this AD, re-identify the identification plates, in accordance with the Accomplishment Instructions of Airbus Service Bulletin A320-32-1346, Revision 04, including Appendices 01 and 02, dated April 22, 2011 (for Model A318, A319, A320, and A321 series airplanes other than Model A319CJ (corporate jet) airplanes).

(i) Credit for Previous Actions

This paragraph provides credit for the actions required by paragraph (g) of this AD, if those actions were performed before the effective date of this AD using the service information specified in paragraphs (i)(1) through (i)(6) of this AD, which are not incorporated by reference in this AD.

(1) Airbus Service Bulletin A320-32-1346, Revision 01, dated October 27, 2009 (for Model A318, A319, A320, and A321 series airplanes).

(2) Airbus Service Bulletin A320-32-1346, Revision 02, dated November 4, 2009 (for Model A318, A319, A320, and A321 series airplanes).

(3) Airbus Service Bulletin A320-32-1346, Revision 03, dated January 7, 2010 (for Model A318, A319, A320, and A321 series airplanes).

(4) Airbus Service Bulletin A320-32-1349, dated December 4, 2008 (for Model A319CJ (corporate jet) airplanes).

(5) Airbus Service Bulletin A320-32-1349, Revision 01, dated August 31, 2009, (for Model A319CJ (corporate jet) airplanes).

(6) Airbus Service Bulletin A320-32-1349, Revision 02, dated June 16, 2010 (for Model A319CJ (corporate jet) airplanes).

(j) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to Mandatory Continuing Airworthiness Information (MCAI) European Aviation Safety Agency Airworthiness Directive 2011-0202, dated October 13, 2011, for related information. This MCAI may be viewed on the Internet at http://ad.easa.europa.eu/blob/easa_ad_2011_0202.pdf.

(2) Service information identified in this AD that is not incorporated by reference may be obtained at the addresses specified in paragraphs (l)(3) and (l)(4) of this AD. (l)

Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A320-32-1346, Revision 04, including Appendices 01 and 02, dated April 22, 2011.

(ii) Airbus Service Bulletin A320-32-1349, Revision 03, including Appendix 1, dated October 5, 2011.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 14, 2013.
Ali Bahrami,
Manager, Transport Airplane Directorate, Aircraft Certification Service.

[FR Doc. 2013-15335 Filed 7-9-13; 8:45 am]

BILLING CODE 4910-13-P